DEPARTMENT OF COMMERCE

International Trade Administration

[A-570-943]

Oil Country Tubular Goods From the People's Republic of China: Rescission of Antidumping Duty Administrative Review; 2011-2012

AGENCY: Import Administration, International Trade Administration, Department of Commerce.

SUMMARY: In response to requests from the United States Steel Corporation (“U.S. Steel” or “Petitioner”), a domestic producer and Petitioner in the underlying investigation of this case, and Wuxi Seamless Oil Pipe Co., Ltd. (“WSP”), a producer of subject merchandise from the People's Republic of China (“PRC”), the Department of Commerce (the “Department”) initiated an administrative review of the antidumping duty order on oil country tubular goods (“OCTG”) from the PRC. The period of review is May 1, 2011 through April 30, 2012. Based on the timely withdrawal of the request for review submitted by both U.S. Steel and WSP, we are now rescinding this administrative review.

DATES: Effective Date: January 18, 2013.

FOR FURTHER INFORMATION CONTACT: Brendan Quinn or Eugene Degnan, AD/CVD Operations, Office 8, Import Administration, International Trade Administration, U.S. Department of Commerce, 14th Street and Constitution Avenue NW., Washington, DC 20230; telephone: (202) 482-5848 or (202) 482-0414, respectively.

Background

On May 1, 2012, the Department published a notice of opportunity to request an administrative review of the antidumping duty order on OCTG from the PRC for the period May 1, 2011 through April 30, 2012.¹ On May 31, 2012, the Department received a timely request from U.S. Steel to conduct an administrative review of 247 PRC companies in accordance with 19 CFR 351.213(b).² In addition, WSP requested that the Department conduct an administrative review of its company.³ Pursuant to these requests, on July 10, 2012, in accordance with section 751(a) of the Tariff Act of 1930, as amended (“the Act”), the Department published in the Federal Register a notice of initiation of this antidumping duty administrative review.⁴

¹ See Antidumping or Countervailing Duty Order, Finding, or Suspended Investigation; Opportunity to Request Administrative Review, 77 FR 25679 (May 1, 2012).

² See Petitioner's submission entitled, “Oil Country Tubular Goods from the People's Republic of China: Request for Administrative Review,” dated May 31, 2012.

³ See WSP's submission entitled, “Oil Country Tubular Goods from China: Request for Administrative Review,” dated May 31, 2012.

⁴ See Initiation of Antidumping and Countervailing Duty Administrative Reviews and Request for Revocation in Part, 77 FR 40565 (July 10, 2012).

Rescission of Administrative Review

Pursuant to 19 CFR 351.213(d)(1), the Secretary will rescind an administrative review, in whole or in part, if the party that requested the review withdraws the request within 90 days of the date of publication of the notice of initiation of the requested review. In this case, on July 10 and September 20, 2012, WSP and Petitioner timely withdrew each of their requests for a review, respectively.⁵ Therefore, the Department is rescinding the administrative review of the antidumping duty order on OCTG from the PRC covering the period May 1, 2011 through April 30, 2012, in accordance with 19 CFR 351.213(d)(1).

⁵ See WSP's submission entitled, “Oil Country Tubular Goods from China: Withdrawal of Request for Administrative Review,” dated July 10, 2012; and Petitioner's submission entitled, “Certain Oil Country Tubular Goods from the People's Republic of China,” dated September 20, 2012.

Assessment

The Department will instruct U.S. Customs and Border Protection (“CBP”) to assess antidumping duties on all appropriate entries. Antidumping duties shall be assessed at rates equal to the cash deposit or bonding rate of estimated antidumping duties required at the time of entry, or withdrawal from warehouse, for consumption, in accordance with 19 CFR 351.212(c)(1)(i). The Department intends to issue appropriate assessment instructions directly to CBP 15 days after publication of this notice.

Notification to Importers

This notice serves as a final reminder to importers of their responsibility under 19 CFR 351.402(f)(2) to file a certificate regarding the reimbursement of antidumping duties prior to liquidation of the relevant entries during this period. Failure to comply with this requirement could result in the Secretary's presumption that reimbursement of antidumping duties occurred and the subsequent assessment of double antidumping duties.

Notification Regarding Administrative Protective Order

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice is issued and published in accordance with section 777(i)(1) of the Act and 19 CFR 351.213(d)(4).

Dated: January 10, 2013.
Christian Marsh,
Deputy Assistant Secretary for Antidumping and Countervailing Duty Operations.

[FR Doc. 2013-01045 Filed 1-17-13; 8:45 am]

BILLING CODE 3510-DS-P